DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Arizona:
Maricopa (FEMA Docket No.: B-2383) | City of Phoenix (22-09-1756P). | The Honorable Kate Gallego, Mayor, City of Phoenix, 200 West Washington Street, Phoenix, AZ 85003. | Street Transportation Department, 200 West Washington Street, 5th Floor, Phoenix, AZ 85003. | Feb. 2, 2024 | 040051
Pima (FEMA Docket No.: B-2394) | Town of Marana (22-09-1156P). | The Honorable Ed Honea, Mayor, Town of Marana, 11555 West Civic Center Drive, Marana, AZ 85653. | Engineering Department, Marana Municipal Complex, 11555 West Civic Center Drive, Marana, AZ 85653. | Feb. 16, 2024 | 040118
Pima (FEMA Docket No.: B-2383) | Unincorporated Areas of Pima County (23-09-0654P). | The Honorable Adelita S. Grijalva, Chair, Board of Supervisors, Pima County, 33 North Stone Avenue, 11th Floor, Tucson, AZ 85701. | Pima County Flood Control District, 201 North Stone Avenue, 9th Floor, Tucson, AZ 85701. | Feb. 5, 2024 | 040073
Pinal (FEMA Docket No.: B-2394) | Town of Queen Creek (22-09-0772P). | The Honorable Julia Wheatley, Mayor, Town of Queen Creek, 22358 South Ellsworth Road, Queen Creek, AZ 85142. | Town Hall, 22358 South Ellsworth Road, Queen Creek, AZ 85142. | Feb. 16, 2024 | 040132
Pinal (FEMA Docket No.: B-2394) | Unincorporated Areas of Pinal County (22-09-0772P). | The Honorable Jeff Serdy, Chair, Board of Supervisors, Pinal County, P.O. Box 827, Florence, AZ 85132. | Pinal County Engineering Division, 31 North Pinal Street, Building F, Florence, AZ 85132. | Feb. 16, 2024 | 040077
Santa Cruz (FEMA Docket No.: B-2383) | City of Nogales (23-09-0258P). | The Honorable Jorge Maldonado, Mayor, City of Nogales, 777 North Grand Avenue, Nogales, AZ 85621. | Public Works Department, 1450 North Hohokam Drive, Nogales, AZ 85621. | Feb. 7, 2024 | 040091
Yavapai (FEMA Docket No.: B-2405) | Unincorporated Areas of Yavapai County (23-09-1052P). | The Honorable James Gregory, Chair, Board of Supervisors, Yavapai County, 1015 Fair Street, 3rd Floor, Prescott, AZ 86305. | Yavapai County Flood Control District, 1120 Commerce Drive, Prescott, AZ 86305. | Mar. 6, 2024 | 040093
California:
Kern (FEMA Docket No.: B-2394) | City of Bakersfield (22-09-0517P). | The Honorable Karen K. Goh, Mayor, City of Bakersfield, 1501 Truxtun Avenue, Bakersfield, CA 93301. | Public Works Department, 1501 Truxtun Avenue, Bakersfield, CA 93301. | Mar. 7, 2024 | 060077
Kern (FEMA Docket No.: B-2394) | Unincorporated Areas of Kern County (22-09-0517P). | The Honorable Jeff Flores, Chair, Board of Supervisors, Kern County, 1115 Truxtun Avenue, 5th Floor, Bakersfield, CA 93301. | Kern County Planning Department, 2700 M Street, Suite 100, Bakersfield, CA 93301. | Mar. 7, 2024 | 060075
Monterey (FEMA Docket No.: B-2405) | City of Gonzales (23-09-1221P). | The Honorable Jose L. Rios, Mayor, City of Gonzales, P.O. Box 647, Gonzales, CA 93926. | City Hall, 147 4th Street, Gonzales, CA 93926. | Apr. 26, 2024 | 060198
Monterey (FEMA Docket No.: B-2405) | City of Salinas (23-09-1219P). | The Honorable Kimbley Craig, Mayor, City of Salinas, 200 Lincoln Avenue, Salinas, CA 93901. | Permit Center, 65 West Alisal Street, Salinas, CA 93901. | Apr. 25, 2024 | 060202
Monterey (FEMA Docket No.: B-2405) | Unincorporated Areas of Monterey County (23-09-1219P). | The Honorable Luis A. Alejo, Chair, Board of Supervisors, Monterey County, 168 West Alisal Street, 2nd Floor, Salinas, CA 93901. | Monterey County, Water Resources Agency, 1441 Schilling Place, North Building, Salinas, CA 93901. | Apr. 25, 2024 | 060195
Monterey (FEMA Docket No.: B-2405) | Unincorporated Areas of Monterey County (23-09-1220P). | The Honorable Luis A. Alejo, Chair, Board of Supervisors, Monterey County, 168 West Alisal Street, 2nd Floor, Salinas, CA 93901. | Monterey County, Water Resources Agency, 1441 Schilling Place, North Building, Salinas, CA 93901. | Apr. 25, 2024 | 060195
Monterey (FEMA Docket No.: B-2405) | Unincorporated Areas of Monterey County (23-09-1222P). | The Honorable Luis A. Alejo, Chair, Board of Supervisors, Monterey County, 168 West Alisal Street, 2nd Floor, Salinas, CA 93901. | Monterey County, Water Resources Agency, 1441 Schilling Place, North Building, Salinas, CA 93901. | Apr. 25, 2024 | 060195
Monterey (FEMA Docket No.: B-2405) | Unincorporated Areas of Monterey County (23-09-1223P). | The Honorable Luis A. Alejo, Chair, Board of Supervisors, Monterey County, 168 West Alisal Street, 2nd Floor, Salinas, CA 93901. | Monterey County, Water Resources Agency, 1441 Schilling Place, North Building, Salinas, CA 93901. | May 6, 2024 | 060195
Napa (FEMA Docket No.: B-2394) | City of Calistoga (22-09-1525P). | The Honorable Donald Williams, Mayor, City of Calistoga, City Hall, 1232 Washington Street, Calistoga, CA 94515. | Planning and Building Department, 1232 Washington Street, Calistoga, CA 94515. | Feb. 12, 2024 | 060206
Napa (FEMA Docket No.: B-2394) | Unincorporated Areas of Napa County (22-09-1525P). | The Honorable Belia Ramos, Chair, Board of Supervisors, Napa County, 1195 3rd Street, Napa, CA 94559. | Napa County, Public Works Department, 1195 3rd Street, Suite 101, Napa, CA 94559. | Feb. 12, 2024 | 060205
Riverside (FEMA Docket No.: B-2394) | City of Menifee (22-09-1366P). | The Honorable Bill Zimmerman, Mayor, City of Menifee, 29844 Haun Road, Menifee, CA 92586. | Public Works and Engineering Department, 29714 Haun Road, Menifee, CA 92586. | Feb. 26, 2024 | 060176
Riverside (FEMA Docket No.: B-2394) | City of Perris (22-09-1366P). | The Honorable Michael Vargas, Mayor, City of Perris, 101 North D Street, Perris, CA 92570. | Engineering Department, 24 South D Street, Suite 100, Perris, CA 92570. | Feb. 26, 2024 | 060258
Riverside (FEMA Docket No.: B-2394) | Unincorporated Areas of Riverside County (23-09-0988P). | The Honorable Kevin Jeffries, Chair, Board of Supervisors, Riverside County, 4080 Lemon Street, 5th Floor, Riverside, CA 92501. | Riverside County, Flood Control and Water Conservation District, 1995 Market Street, Riverside, CA 92501. | Mar. 13, 2024 | 060245
San Diego (FEMA Docket No.: B-2394) | City of San Diego (23-09-0040P). | The Honorable Todd Gloria, Mayor, City of San Diego, 202 C Street, 11th Floor, San Diego, CA 92101. | Development Services Department, 1222 1st Avenue, MS 301, San Diego, CA 92101. | Apr. 2, 2024 | 060295
San Joaquin (FEMA Docket No.: B-2394) | City of Lathrop (23-09-0600P). | The Honorable Sonny Dhaliwal, Mayor, City of Lathrop, 390 Towne Centre Drive, Lathrop, CA 95330. | Community Development Department, Planning Division, 390 Towne Centre Drive, Lathrop, CA 95330. | Mar. 27, 2024 | 060738
Tulare (FEMA Docket No.: B-2405) | City of Woodlake (23-09-1050P). | The Honorable Rudy Mendoza, Mayor, City of Woodlake, 350 North Valencia Boulevard, Woodlake, CA 93286. | City Hall, 350 North Valencia Boulevard, Woodlake, CA 93286. | May 2, 2024 | 065071
Tulare (FEMA Docket No.: B-2405) | Unincorporated Areas of Tulare County (23-09-1050P). | The Honorable Dennis Townsend, Chair, Board of Supervisors, Tulare County, 2800 West Burrel Avenue, Visalia, CA 93291. | Tulare County Resource Management Agency, Government Plaza, 5961 South Mooney Boulevard, Visalia, CA 93277. | May 2, 2024 | 065066
Ventura (FEMA Docket No.: B-2405) | City of Simi Valley (22-09-1262P). | The Honorable Fred D. Thomas, Mayor, City of Simi Valley, 2929 Tapo Canyon Road, Simi Valley, CA 93063. | Department of Public Works, 2929 Tapo Canyon Road, Simi Valley, CA 93063. | Apr. 12, 2024 | 060421
Ventura (FEMA Docket No.: B-2394) | City of Simi Valley (22-09-1318P). | The Honorable Fred D. Thomas, Mayor, City of Simi Valley, 2929 Tapo Canyon Road, Simi Valley, CA 93063. | Department of Public Works, 2929 Tapo Canyon Road, Simi Valley, CA 93063. | Feb. 20, 2024 | 060421
Florida:
Clay (FEMA Docket No.: B-2405) | Unincorporated Areas of Clay County (23-04-0807P). | Howard Wanamaker, Manager, Clay County, P.O. Box 1366, Green Cove Springs, FL 32043. | Clay County, Public Works Department, 5 Esplanade Avenue, Green Cove Springs, FL 32043. | Mar. 21, 2024 | 120064
Duval (FEMA Docket No.: B-2405) | City of Atlantic Beach (22-04-5573P). | The Honorable Curtis Ford, Mayor—Seat 1, City of Atlantic Beach, 800 Seminole Road, Atlantic Beach, FL 32233. | City Hall, 800 Seminole Road, Atlantic Beach, FL 32233. | Apr. 5, 2024 | 120075
Duval (FEMA Docket No.: B-2394) | City of Jacksonville (22-04-5474P). | The Honorable Donna Deegan, Mayor, City of Jacksonville, 117 West Duval Street, Suite 400, Jacksonville, FL 32202. | Edward Ball Building Development Services, Room 2100, 214 North Hogan Street, Jacksonville, FL 32202. | Feb. 28, 2024 | 120077
Duval (FEMA Docket No.: B-2405) | City of Jacksonville (22-04-5573P). | The Honorable Donna Deegan, Mayor, City of Jacksonville, 117 West Duval Street, Suite 400, Jacksonville, FL 32202. | Edward Ball Building Development Services, Room 2100, 214 North Hogan Street, Jacksonville, FL 32202. | Apr. 5, 2024 | 120077
Duval (FEMA Docket No.: B-2383) | City of Jacksonville (23-04-0131P). | The Honorable Donna Deegan, Mayor, City of Jacksonville, 117 West Duval Street, Suite 400, Jacksonville, FL 32202. | Edward Ball Building Development Services, Room 2100, 214 North Hogan Street, Jacksonville, FL 32202. | Feb. 8, 2024 | 120077
Duval (FEMA Docket No.: B-2405) | City of Jacksonville (23-04-1662P). | The Honorable Donna Deegan, Mayor, City of Jacksonville, 117 West Duval Street, Suite 400, Jacksonville, FL 32202. | Edward Ball Building Development Services, Room 2100, 214 North Hogan Street, Jacksonville, FL 32202. | Apr. 12, 2024 | 120077
Duval (FEMA Docket No.: B-2405) | City of Jacksonville (23-04-3193P). | The Honorable Donna Deegan, Mayor, City of Jacksonville, 117 West Duval Street, Suite 400, Jacksonville, FL 32202. | Edward Ball Building Development Services, Room 2100, 214 North Hogan Street, Jacksonville, FL 32202. | Apr. 2, 2024 | 120077
Nassau (FEMA Docket No.: B-2405) | Unincorporated Areas of Nassau County (23-04-1810P). | Klynt A. Farmer, Chair, Nassau County Board of Commissioners, 96135 Nassau Place, Suite 1, Yulee, FL 32097. | Nassau County Building Department, 96161 Nassau Place, Yulee, FL 32097. | Mar. 31, 2024 | 120170
St. Johns (FEMA Docket No.: B-2405) | Unincorporated Areas of St. Johns County (22-04-4973P). | Christian Whitehurst, Chair, St. Johns County Board of Commissioners, 500 San Sebastian View, St. Augustine, FL 32084. | St. Johns County Permit Center, 4040 Lewis Speedway, St. Augustine, FL 32084. | Apr. 29, 2024 | 125147
St. Johns (FEMA Docket No.: B-2394) | Unincorporated Areas of St. Johns County (23-04-1421P). | Christian Whitehurst, Chair, St. Johns County Board of County Commissioners, 500 San Sebastian View, St. Augustine, FL 32084. | St. Johns County Permit Center, 4040 Lewis Speedway, St. Augustine, FL 32084. | Mar. 4, 2024 | 125147
Volusia (FEMA Docket No.: B-2383) | City of Daytona Beach (23-04-0482P). | The Honorable Derrick Henry, Mayor, City of Daytona Beach, City Hall, 301 South Ridgewood Avenue, Daytona Beach, FL 32114. | City Hall, 301 South Ridgewood Avenue, Daytona Beach, FL 32114. | Feb. 1, 2024 | 125099
Idaho:
Ada (FEMA Docket No.: B-2405) | Unincorporated Areas of Ada County (23-10-0153P). | Rod Beck, Chair, Ada County Board of Commissioners, Ada County Courthouse, 200 West Front Street, 3rd Floor, Boise, ID 83702. | Ada County Courthouse, 200 West Front Street, Boise, ID 83702. | Apr. 11, 2024 | 160001
Bannock (FEMA Docket No.: B-2405) | City of Pocatello (22-10-0761P). | The Honorable Brian Blad, Mayor, City of Pocatello, P.O. Box 4169, Pocatello, ID 83201. | City Hall, 911 North 7th Avenue, Pocatello, ID 83201. | Mar. 21, 2024 | 160012
Bannock (FEMA Docket No.: B-2405) | Unincorporated Areas of Bannock County (22-10-0761P). | Ernie Moser, Chair, Bannock County Board of Commissioners, 624 East Center, Room 101, Pocatello, ID 83201. | Bannock County Planning and Development, 5500 South 5th Avenue, Pocatello, ID 83201. | Mar. 21, 2024 | 160009
Blaine (FEMA Docket No.: B-2383) | City of Bellevue (23-10-0247P). | The Honorable Kathryn Goldman, Mayor, City of Bellevue, 115 East Pine Street, Bellevue, ID 83313. | City Hall, 115 East Pine Street, Bellevue, ID 83313. | Jan. 11, 2024 | 160021
Bonneville (FEMA Docket No.: B-2383) | Unincorporated Areas of Bonneville County (23-10-0340P). | Roger Christensen, Chair, Bonneville County Board of Commissioners, 605 North Capital Avenue, Idaho Falls, ID 83402. | Bonneville County Courthouse, 605 North Capital Avenue, Idaho Falls, ID 83402. | Jan. 31, 2024 | 160027
Canyon (FEMA Docket No.: B-2405) | City of Notus (23-10-0461P). | The Honorable David Porterfield, Mayor, City of Notus, P.O. Box 257, Notus, ID 83656. | City Hall, 375 Notus Road, Notus, ID 83656. | Mar. 20, 2024 | 160147
Canyon (FEMA Docket No.: B-2383) | Unincorporated Areas of Canyon County (22-10-0980P). | Brad Holton, Chair, Canyon County Board of Commissioners, 1115 Albany Street, Room 101, Caldwell, ID 83605. | Canyon County Administration Building, 111 North 11th Avenue, Room 101, Caldwell, ID 83605. | Jan. 12, 2024 | 160208
Canyon (FEMA Docket No.: B-2405) | Unincorporated Areas of Canyon County (23-10-0461P). | Brad Holton, Chair, Canyon County Board of Commissioners, 1115 Albany Street, Room 101, Caldwell, ID 83605. | Canyon County Administration Building, 111 North 11th Avenue, Room 101, Caldwell, ID 83605. | Mar. 20, 2024 | 160208
Elmore (FEMA Docket No.: B-2394) | Unincorporated Areas of Elmore County (23-10-0206P). | Al Hofer, Chair, Elmore County, 150 South 4th East Street, Mountain Home, ID 83647. | Elmore County Courthouse Planning and Zoning Department, 150 South 4th East Street, Mountain Home, ID 83647. | Feb. 29, 2024 | 160212
Illinois:
Cook (FEMA Docket No.: B-2394) | Village of Richton Park (23-05-2566P). | Rick Reinbold, Village President, Village of Richton Park, 4455 Sauk Trail, Richton Park, IL 60471. | Municipal Building, 4455 Sauk Trail, Richton Park, IL 60471. | Mar. 18, 2024 | 170149
Kane (FEMA Docket No.: B-2405) | City of Elgin (22-05-2657P). | The Honorable David Kaptain, Mayor, City of Elgin, 150 Dexter Court, Elgin, IL 60120. | Public Works Department, Engineering Department, 150 Dexter Court, Elgin, IL 60120. | Apr. 4, 2024 | 170087
Kane (FEMA Docket No.: B-2405) | Village of Campton Hills (22-05-2657P). | Barbara Wojnicki, Village President, Village of Campton Hills, 40W270 LaFox Road, Suite B, Campton Hills, IL 60175. | Village Hall, 40W270 LaFox Road, Suite B, Campton Hills, IL 60175. | Apr. 4, 2024 | 171396
Kane (FEMA Docket No.: B-2394) | Village of Gilberts (23-05-1813P). | Guy Zambetti, Village President, Village of Gilberts, 87 Galligan Road, Gilberts, IL 60136. | Village Hall, 87 Galligan Road, Gilberts, IL 60136. | Mar. 28, 2024 | 170326
La Salle (FEMA Docket No.: B-2394) | City of Peru (23-05-1547P). | The Honorable Ken Kolowski, Mayor, City of Peru, 1901 4th Street, Peru, IL 61354. | City Hall, 1901 4th Street, Peru, IL 61354. | Mar. 12, 2024 | 170406
Will (FEMA Docket No.: B-2394) | Unincorporated Areas of Will County (22-05-2651P). | Jennifer Bertino-Tarrant, Will County Executive, Will County Office Building, 302 North Chicago Street, Joliet, IL 60432. | Will County Land Use Department, 58 East Clinton Street, Suite 100, Joliet, IL 60432. | Mar. 20, 2024 | 170695
Will (FEMA Docket No.: B-2405) | Unincorporated Areas of Will County (22-05-3276P). | Jennifer Bertino-Tarrant, Will County Executive, Will County Office Building, 302 North Chicago Street, Joliet, IL 60432. | Will County Land Use Department, 58 East Clinton Street, Suite 100, Joliet, IL 60432. | Apr. 17, 2024 | 170695
Will (FEMA Docket No.: B-2405) | Unincorporated Areas of Will County (24-05-0310P). | Jennifer Bertino-Tarrant, Will County Executive, Will County Office Building, 302 North Chicago Street, Joliet, IL 60432. | Will County Land Use Department, 58 East Clinton Street, Suite 100, Joliet, IL 60432. | Apr. 15, 2024 | 170695
Will (FEMA Docket No.: B-2405) | Village of Plainfield (24-05-0310P). | John Argoudelis, Village President, Village of Plainfield, 24401 West Lockport Street, Plainfield, IL 60544. | Village Hall, 24401 West Lockport Street, Plainfield, IL 60544. | Apr. 15, 2024 | 170771
Indiana:
Marion (FEMA Docket No.: B-2405) | City of Indianapolis (22-05-2392P). | The Honorable Joe Hogsett, Mayor, City of Indianapolis, City-County Building, 200 East Washington Street, Suite 2501, Indianapolis, IN 46204. | City Hall, 200 East Washington Street, Suite 1842, Indianapolis, IN 46204. | Mar. 20, 2024 | 180159
Kansas:
Johnson (FEMA Docket No.: B-2394) | Unincorporated Areas of Johnson County (23-07-0167P). | Mike Kelly, Chair, Johnson County Board of Supervisors, County Courthouse, 111 South Cherry Street, Olathe, KS 66061. | Johnson County Courthouse, Planning Office, 111 South Cherry Street, Suite 3500, Olathe, KS 66061. | Mar. 7, 2024 | 200159
Michigan:
Genesee (FEMA Docket No.: B-2394) | City of Flint (22-05-2748P). | The Honorable Sheldon Neeley, Mayor, City of Flint, 1101 South Saginaw Street, Flint, MI 48502. | City Council, 1101 South Saginaw Street, Flint, MI 48502. | Feb. 19, 2024 | 260076
Saginaw (FEMA Docket No.: B-2405) | Township of Kochville (23-05-1059P). | Alan Maleskey, Town Supervisor, Township of Kochville, Kochville Township Offices, 5851 Mackinaw Road, Saginaw, MI 48604. | Township Hall, 5851 Mackinaw Road, Saginaw, MI 48604. | Mar. 20, 2024 | 260501
Minnesota:
Anoka (FEMA Docket No.: B-2383) | City of Andover (23-05-1134P). | The Honorable Sheri Bukkila, Mayor, City of Andover, City Hall, 1685 Crosstown Boulevard Northwest, Andover, MN 55304. | City Hall, 1685 Crosstown Boulevard Northwest, Andover, MN 55304. | Jan. 29, 2024 | 270689
Dakota (FEMA Docket No.: B-2405) | City of Hampton (23-05-1190P). | The Honorable John Knetter, Mayor, City of Hampton, P.O. Box 128, Hampton, MN 55031. | City Hall, 5265 238 Street East, Hampton, MN 55031. | Apr. 26, 2024 | 270774
Dakota (FEMA Docket No.: B-2405) | Unincorporated Areas of Dakota County (23-05-1190P). | Matt Smith, County Manager, Dakota County, 1590 Highway 55, Hastings, MN 55033. | Dakota County Administration Center, 1590 Highway 55, Hastings, MN 55033. | Apr. 26, 2024 | 270101
Mower (FEMA Docket No.: B-2383) | City of Austin (22-05-1096P). | The Honorable Steve King, Mayor, City of Austin, City Hall, 500 4th Avenue Northeast, Austin, MN 55912. | City Hall, 500 4th Avenue Northeast, Austin, MN 55912. | Feb. 1, 2024 | 275228
Nevada:
Carson City (FEMA Docket No.: B-2405) | City of Carson City (22-09-0582P). | The Honorable Lori Bagwell, Mayor, City of Carson City, City Hall, 201 North Carson Street, Suite 2, Carson City, NV 89701. | Building Division, Permit Center, 108 East Proctor Street, Carson City, NV 89701. | Apr. 4, 2024 | 320001
Clark (FEMA Docket No.: B-2394) | City of Henderson (23-09-0113P). | The Honorable Michelle Romero, Mayor, City of Henderson, 240 South Water Street, Henderson, NV 89015. | Public Works Department, 240 South Water Street, Henderson, NV 89015. | Mar. 6, 2024 | 320005
Douglas (FEMA Docket No.: B-2383) | Unincorporated Areas of Douglas County (22-09-0499P). | The Honorable Mark Gardner, Chair, Board of Commissioners, Douglas County, P.O. Box 218, Minden, NV 89423. | Douglas County, Community Development, 1594 Esmeralda Avenue, Minden, NV 89423. | Jan. 18, 2024 | 320008
New York:
Erie (FEMA Docket No.: B-2383 and 2394) | City of Tonawanda (23-02-0651X). | The Honorable John L. White, Mayor, City of Tonawanda, 200 Niagara Street, Tonawanda, NY 14150. | City Hall, 200 Niagara Street, Tonawanda, NY 14150. | Mar. 13, 2024 | 360259
Erie (FEMA Docket No.: B-2383 and 2394) | Town of Grand Island (23-02-0651X). | John Whitney, P.E., Town Supervisor, Town of Grand Island, 2255 Baseline Road, 1st Floor, Grand Island, NY 14072. | Town Hall, 2255 Baseline Road, Grand Island, NY 14072. | Mar. 13, 2024 | 360242
Onondaga (FEMA Docket No.: B-2383) | Town of Manlius (22-02-0141P). | Edmond J. Theobald, Supervisor, Town of Manlius, 301 Brooklea Drive, Fayetteville, NY 13066. | Village Centre, One Arkie Albanese Avenue, Manlius, NY 13104. | Mar. 27, 2024 | 360584
Onondaga (FEMA Docket No.: B-2383) | Village of Fayetteville (22-02-0141P). | The Honorable Mark Olson, Mayor, Village of Fayetteville, 425 East Genesee Street, Fayetteville, NY 13066. | Village Hall, 425 East Genesee Street, Fayetteville, NY 13066. | Mar. 27, 2024 | 360578
Rockland (FEMA Docket No.: B-2405) | Town of Clarkstown (23-02-0495P). | George Hoehmann, Supervisor, Town of Clarkstown, 10 Maple Avenue, New City, NY 10956. | Town Hall, 10 Maple Avenue, New City, NY 10956. | May 22, 2024 | 360679
Suffolk (FEMA Docket No.: B-2383) | Town of Southold (23-02-0178P). | Scott A. Russell, Supervisor, Town of Southold, 53095 Main Road, Southold, NY 11971. | Town Hall, 53095 Route 25, Southold, NY 11971. | Feb. 8, 2024 | 360813
Ohio:
Licking (FEMA Docket No.: B-2405) | Unincorporated Areas of Licking County (23-05-2363P). | Timothy E. Bubb, President, Board of Licking County Commissioners, 20 South 2nd Street, Newark, OH 43055. | Licking County, Planning and Development Department, 20 South 2nd Street, Newark, OH 43055. | Apr. 12, 2024 | 390328
Licking (FEMA Docket No.: B-2405) | Village of Hebron (23-05-2363P). | The Honorable James Layton, Mayor, Village of Hebron, 934 West Main Street, Hebron, OH 43025. | Municipal Complex, 934 West Main Street, Hebron, OH 43025. | Apr. 12, 2024 | 390333
Logan (FEMA Docket No.: B-2405) | City of Bellefontaine (23-05-2635P). | The Honorable Ben Stahler, Mayor, City of Bellefontaine, 135 North Detroit Street, Bellefontaine, OH 43311. | City Hall, 135 North Detroit Street, Bellefontaine, OH 43311. | Apr. 17, 2024 | 390340
Logan (FEMA Docket No.: B-2405) | Unincorporated Areas of Logan County (23-05-2635P). | The Honorable Joe Antram, President, Logan County Board of Commissioners, 117 East Columbus Avenue, Bellefontaine, OH 43311. | Logan County Commissioner's Office, 117 East Columbus Avenue, Bellefontaine, OH 43311. | Apr. 17, 2024 | 390772
Summit (FEMA Docket No.: B-2383) | City of Akron (23-05-0885P). | The Honorable Dan Horrigan, Mayor, City of Akron, 166 South High Street, Suite 200, Akron, OH 44308. | Engineering Department, 576 West Park Avenue, Barberton, OH 44236. | Jan. 17, 2024 | 390523
Summit (FEMA Docket No.: B-2383) | City of Barberton (23-05-0885P). | The Honorable William B. Judge, Mayor, City of Barberton, 576 West Park Avenue, Barberton, OH 44203. | Engineering Department, 576 West Park Avenue, Barberton, OH 44236. | Jan. 17, 2024 | 390524
Oregon:
Yamhill (FEMA Docket No.: B-2383) | City of Yamhill (22-10-1006P). | The Honorable Yvette Potter, Mayor, City of Yamhill, 205 South Maple, Yamhill, OR 97148. | City Hall, 205 South Maple Street, Yamhill, OR 97148. | Jan. 3, 2024 | 410259
Yamhill (FEMA Docket No.: B-2383) | Unincorporated Areas of Yamhill County (22-10-1006P). | Lindsay Berschauer, Chair, Yamhill County Board of Commissioners, 535 Northeast 5th Street, McMinnville, OR 97128. | Yamhill County, Surveyor's Office, 2060 Lafayette Avenue, McMinnville, OR 97128. | Jan. 3, 2024 | 410249
Pennsylvania: Chester (FEMA Docket No.: B-2383) | Borough of Phoenixville (22-03-1007P). | The Honorable Peter Urscheler, Mayor, Borough of Phoenixville, 351 Bridge Street, 2nd Floor, Phoenixville, PA 19460. | Borough Hall, 351 Bridge Street, 2nd Floor, Phoenixville, PA 19460. | Jan. 29, 2024 | 420287
Texas: Collin (FEMA Docket No.: B-2383) | Unincorporated Areas of Collin County (23-06-0707P). | The Honorable Chris Hill, County Judge Precinct 3, Collin County Administration Building, 2300 Bloomdale Road, Suite 4192, McKinney, TX 75071. | Collin County Engineering Department, 4690 Community Avenue, Suite 200, McKinney, TX 75071. | Jan. 16, 2024 | 480130
Washington: Spokane (FEMA Docket No.: B-2383) | Unincorporated Areas of Spokane County (23-10-0428P). | Mary Kuney, Chair, Spokane County Board of Commissioners, 1116 West Broadway Avenue, Spokane County, WA 99260. | Spokane County Public Works Building, 1026 West Broadway Avenue, Spokane, WA 99260. | Feb. 7, 2024 | 530174
Wisconsin:
Buffalo (FEMA Docket No.: B-2394) | City of Durand (22-05-1633P). | The Honorable Patrick Milliren, Mayor, City of Durand, 511 6th Avenue East, Durand, WI 54736. | City Hall, 104 East Main Street, Durand, WI 54736. | Feb. 9, 2024 | 550320
Buffalo (FEMA Docket No.: B-2394) | Unincorporated Areas of Buffalo County (22-05-1633P). | Dennis Bork, Chair, Buffalo County Board of Supervisors, P.O. Box 58, Alma, WI 54610. | Buffalo County Courthouse, 407 South 2nd Street, Alma, WI 54610. | Feb. 9, 2024 | 555547
Clark (FEMA Docket No.: B-2394) | Unincorporated Areas of Clark County (23-05-1325P). | Wayne Hendrickson, Chair, Clark County Board of Supervisors, Emergency Government Department, 517 Court Street, Neillsville, WI 54456. | Clark County, Emergency Government Department, 517 Court Street, Neillsville, WI 54456. | Feb. 29, 2024 | 550048
Kenosha (FEMA Docket No.: B-2405) | City of Kenosha (23-05-2935P). | The Honorable John Antaramian, Mayor, City of Kenosha, 625 52nd Street, Room 300, Kenosha, WI 53140. | City Hall, 625 52nd Street, Kenosha, WI 53140. | Apr. 24, 2024 | 550209
Kenosha (FEMA Docket No.: B-2405) | Village of Bristol (23-05-2935P). | Mike Farrell, President, Village of Bristol, Bristol Municipal Building, 19801 83rd Street, Bristol, WI 53104. | Village Hall, 19801 83rd Street, Bristol, WI 53104. | Apr. 24, 2024 | 550595
Kenosha (FEMA Docket No.: B-2405) | Village of Pleasant Prairie (23-05-0948P). | John P. Steinbrink, President, Village of Pleasant Prairie, 9915 39th Avenue, Pleasant Prairie, WI 53158. | Village Hall, 9915 39th Avenue, Pleasant Prairie, WI 53158. | Mar. 26, 2024 | 550613
Outagamie (FEMA Docket No.: B-2405) | Unincorporated Areas of Outagamie County (21-05-4195P). | Thomas M. Nelson, County Executive, Outagamie County, 320 South Walnut Street, Appleton, WI 54911. | Outagamie County Building, 410 South Walnut Street, Appleton, WI 54911. | Apr. 19, 2024 | 550302
Pepin (FEMA Docket No.: B-2394) | Unincorporated Areas of Pepin County (22-05-1633P). | Tom Milliren, Chair, Pepin County Board of Supervisors, 740 7th Avenue West, Durand, WI 54736. | Pepin County Government Center, 740 7th Avenue West, Durand, WI 54736. | Feb. 9, 2024 | 555570
Portage (FEMA Docket No.: B-2295) | Unincorporated Areas of Portage County (22-05-0525P). | Chair Al Haga, Jr., Portage County, 2140 Norway Pine Drive, Plover, WI 54467. | Portage County Courthouse, 1516 Church Street, Stevens Point, WI 54481. | Jan. 19, 2023 | 550572
Sheboygan (FEMA Docket No.: B-2405) | City of Plymouth (22-05-1328P). | The Honorable Don Pohlman, Mayor, City of Plymouth, City Hall, 128 Smith Street, Plymouth, WI 53073. | City Hall, 128 Smith Street, Plymouth, WI 53073. | Apr. 8, 2024 | 550428
Sheboygan (FEMA Docket No.: B-2405) | Unincorporated Areas of Sheboygan County (22-05-1328P). | Vernon C. Koch, Chair, Sheboygan County, Administration Building, 508 New York Avenue, Room 311, Sheboygan, WI 53081. | Sheboygan County, Administration Building, 508 New York Avenue, Sheboygan, WI 53081. | Apr. 8, 2024 | 550424

[FR Doc. 2024-12005 Filed 5-30-24; 8:45 am]

BILLING CODE 9110-12-P